FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 012131.

Title: MOL/Norasia Space Charter Agreement.

Parties: Mitsui O.S.K. Lines, Ltd. and Norasia Container Lines Ltd.

Filing Party: Robert B. Yoshitomi, Esq.; Nixon Peabody LLP; 555 West Fifth Street, 46th Floor; Los Angeles, CA 90013.

Synopsis: The agreement authorizes the parties to charter space in the trade from Vietnam to U.S. West Coast.

Agreement No.: 012132.

Title: Crowley/King Ocean Charter and Sailing Agreement.

Parties: Crowley Latin America Services, LLC and King Ocean Services Limited, Inc.

Filing Party: Wayne Rohde, Esq.; Cozen O'Connor; 1627 I Street, NW.; Suite 1100; Washington, DC 20006.

Synopsis: The agreement authorizes King Ocean to charter space to Crowley in the trades between ports on the U.S. Atlantic coast and ports in Costa Rica.

By Order of the Federal Maritime Commission.
Dated: June 24, 2011.
Rachel E. Dickon,
Assistant Secretary.

[FR Doc. 2011-16340 Filed 6-28-11; 8:45 am]

BILLING CODE 6730-01-P